DEPARTMENT OF ENERGY

Federal Energy Regulatory Commission

[Docket No. RP00-212-001]

Florida Gas Transmission Company; Notice of Proposed Compliance Filing

July 31, 2000.

Take notice that on July 27, 2000, Florida Gas Transmission Company (FGT) tendered for filing to become part of its FERC Gas Tariff, Third Revised Volume No. 1, the following tariff sheets, effective August 25, 2000:

First Revised Sheet No. 186

Fifth Revised Sheet No. 187

FGT states that on March 8, 2000, NUI Corporation (City Gas Company of Florida Division) (NUI) filed a complaint contending that FGT violated applicable Commission policy, as well as FGT's tariff, by not permitting NUI to reduce its contract demand selectively by season in matching a bid submitted under FGT's right-of-first-refusal (ROFR) procedure. Subsequently, on July 14, 2000, the Commission issued an order in the referenced docket requiring FGT to clarify shippers' rights to uniformly reduce contract demand when exercising their ROFR rights. FGT states that in the instant filing, FGT is complying with the Commission's Order by adding tariff language allowing shippers exercising ROFR rights to reduce contract demand by either a uniform percentage reducing for each season or by the same absolute volume amount in each season.

Any person desiring to protest this filing shall file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-19750 Filed 8-3-00; 8:45 am]

BILLING CODE 6717-01-M